DEPARTMENT OF HEALTH AND HUMAN SERVICES

Centers for Medicare & Medicaid Services

[Document Identifier: CMS-10371]

Agency Information Collection Activities: Submission for OMB Review; Comment Request

AGENCY: Centers for Medicare & Medicaid Services (CMS), HHS.

ACTION: Agency information collection activities: Proposed collection; comment request; extension of comment period.

SUMMARY: This notice extends the comment period for a 30-day notice request for proposed information collection request associated with the notice [Document Identifier: CMS-10371] entitled “State-based Exchange, SBE, SBE Budget Template, SBE Enrollment Metrics, Open Enrollment” and published in the May 21, 2025 (90 FR 21775) Federal Register. The comment period for the information collection request, which would have ended on June 20, 2025, is extended to Monday, July 7, 2025.

DATES: The comment period for the information collection request published in the May 21, 2025, Federal Register (90 FR 21775) is extended to July 7, 2025.

ADDRESSES: Written comments and recommendations for the proposed information collection should be sent to www.reginfo.gov/public/do/ PRAMain. Find this particular information collection by selecting “Currently under 30-day Review—Open for Public Comments” or by using the search function. To obtain copies of a supporting statement and any related forms for the proposed collection(s) summarized in this notice, please access the CMS PRA website by copying and pasting the following web address into your web browser: https://www.cms.gov/Regulations-and-Guidance/Legislation/PaperworkReductionActof1995/PRA-Listing.

FOR FURTHER INFORMATION CONTACT: William N. Parham at (410) 786-4669.

SUPPLEMENTARY INFORMATION: In the FR Doc. 2025-09144 of May 21, 2025 (90 FR 21775), we published a Paperwork Reduction Act notice requesting a 30-day public comment period for the document entitled “State-based Exchange, SBE, SBE Budget Template, SBE Enrollment Metrics, Open Enrollment.” There were technical delays associated with making the information collection request publicly available; therefore, in this notice we are extending the comment period from the date originally listed in the May 21, 2025, notice.

William N. Parham, III,
Director, Division of Information Collections and Regulatory Impacts, Office of Strategic Operations and Regulatory Affairs.

[FR Doc. 2025-10521 Filed 6-10-25; 8:45 am]

BILLING CODE 4120-01-P